DEPARTMENT OF AGRICULTURE

Animal and Plant Health Inspection Service

[Docket No. APHIS-2017-0081]

Notice of Request for Revision to and Extension of Approval of an Information Collection; Karnal Bunt; Importation of Wheat and Related Articles

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of wheat and related articles from regions affected with Karnal bunt.

DATES: We will consider all comments that we receive on or before December 12, 2017.

ADDRESSES: You may submit comments by either of the following methods:

• Federal eRulemaking Portal: Go to http://www.regulations.gov/#!docketDetail;D=APHIS-2017-0081.

• Postal Mail/Commercial Delivery: Send your comment to Docket No. APHIS-2017-0081, Regulatory Analysis and Development, PPD, APHIS, Station 3A-03.8, 4700 River Road Unit 118, Riverdale, MD 20737-1238.

Supporting documents and any comments we receive on this docket may be viewed at http://www.regulations.gov/#!docketDetail;D=APHIS-2017-0081 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on Karnal bunt and the importation of wheat and related articles, contact Mr. George Galasso, National Trade Director, PPQ, APHIS, 4700 River Road Unit 140, Riverdale, MD 20737; (301) 851-2050. For copies of more detailed information on the information collection, contact Ms. Kimberly Hardy, APHIS' Information Collection Coordinator, at (301) 851-2483.

SUPPLEMENTARY INFORMATION:

Title: Karnal Bunt; Importation of Wheat and Related Articles.

OMB Control Number: 0579-0240.

Type of Request: Revision to and extension of approval of an information collection.

Abstract: Under the Plant Protection Act (7 U.S.C. 7701 et seq.), the Secretary of Agriculture is authorized, among other things, to prohibit or restrict the importation, entry, or interstate movement of plants, plant products, biological control organism, noxious weeds, means of conveyances, and other articles to prevent the introduction of plant pests or noxious weeds into the United States or their dissemination within the United States. This authority has been delegated to the Animal and Plant Health Inspection Service (APHIS).

Karnal bunt is a fungal disease of wheat (Triticum aestivum), durum wheat (Triticum durum), and triticale (Triticum aestivum X Secale cereale), a hybrid of wheat and rye. Karnal bunt is caused by the smut fungus Tilletia indica (Mitra) Mundkhur and is spread by spores, primarily through movement of infected seed.

To prevent the introduction and spread of various wheat diseases, including Karnal bunt, APHIS' regulations in “Subpart—Wheat Diseases” (7 CFR 319.59-1 through 319.59-4) prohibit the importation of wheat seed, plants, straw, and other products into the United States from regions affected with Karnal bunt.

The regulations require that certain regulated articles imported from Karnal bunt-free areas within regions regulated for Karnal bunt be accompanied by a phytosanitary certificate that must be completed by an official of the national plant protection organization (NPPO) of the region of origin. The certificate must include a declaration stating that the regulated articles originated in areas where Karnal bunt is not known to occur, as attested to either by survey results or by testing for bunted kernels or spores. In addition, there are other information collection activities including notices of arrival, disinfection documents, and emergency action notice.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.8 hours per response.

Respondents: Importers/exporters of wheat and related articles and the NPPO of the region of origin.

Estimated annual number of respondents: 4.

Estimated annual number of responses per respondent: 56.

Estimated annual number of responses: 224.

Estimated total annual burden on respondents: 186 hours. (Due to averaging, the total annual burden hours may not equal the product of the annual number of responses multiplied by the reporting burden per response.)

All responses to this notice will be summarized and included in the request for OMB approval. All comments will also become a matter of public record.

Done in Washington, DC, this 6th day of October 2017.
Michael C. Gregoire,
Acting Administrator, Animal and Plant Health Inspection Service.

[FR Doc. 2017-22223 Filed 10-12-17; 8:45 am]

BILLING CODE 3410-34-P